DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 11, 2008.

Interested persons are invited to submit written comments regarding the subject matter of the investigations to the Director, Division of Trade Adjustment Assistance, at the address shown below, not later than February 11, 2008.

The petitions filed in this case are available for inspection at the Office of the Director, Division of Trade Adjustment Assistance, Employment and Training Administration, U.S. Department of Labor, Room C-5311, 200 Constitution Avenue, NW., Washington, DC 20210.

Signed at Washington, DC, this 25th day of January 2008.
Ralph DiBattista,
Director, Division of Trade Adjustment Assistance.

Appendix
TAA petitions instituted between 1/14/08 and 1/18/08
TA-W | Subject firm (Petitioners) | Location | Date of institution | Date of petition
62669 | La-z-Boy Greensboro, Inc. (State) | North Wilkesboro, NC | 01/14/08 | 01/10/08
62670 | Visteon Concordia VRAP (UAW) | Concordia, MO | 01/14/08 | 12/12/07
62671 | Melvin Quilting Company (Wkrs) | Rocky Mount, NC | 01/14/08 | 01/11/08
62672 | Emcore Corporation (Wkrs) | Albuquerque, NM | 01/14/08 | 01/07/08
62673 | Siemens Energy and Automation, Inc. (E & A) (Comp) | Urbana, OH | 01/14/08 | 01/03/08
62674 | Fiber Yarn and Fillers (UNITE) | Philadelphia, PA | 01/14/08 | 01/10/08
62675 | Syncreon-US, JNAP Operation (Comp) | Detroit, MI | 01/14/08 | 01/11/08
62676 | Hexion Chemicals (Wkrs) | Pleasant Prairie, WI | 01/14/08 | 01/10/08
62677 | Llink Technologies, LLC (Comp) | Brown City, MI | 01/14/08 | 01/02/08
62678 | Dual-Lite Cayman Ltd (State) | Naguabo, PR | 01/14/08 | 01/10/08
62679 | Hydraulic Technologies Inc. (Wkrs) | Galion, OH | 01/14/08 | 12/27/07
62680 | Siemens E & A, Inc. (Comp) | Bellefontaine, OH | 01/14/08 | 01/03/08
62681 | Tyco Electronics (Comp) | Reading, PA | 01/15/08 | 01/14/08
62682 | Plastech Engineering, Inc. (State) | Winnsboro, SC | 01/15/08 | 01/14/08
62683 | Harvey Industries, LLC (Wkrs) | Wabash, IN | 01/15/08 | 01/07/08
62684 | The New Mayflower Corporation (Comp) | Old Forge, PA | 01/15/08 | 01/14/08
62685 | Newton Tool (Wkrs) | Swedesboro, NJ | 01/15/08 | 01/04/08
62686 | FitLinxx (State) | Norwalk, CT | 01/15/08 | 01/14/08
62687 | Georgia-Pacific Corporation Plywood Plant (State) | Crossett, AR | 01/15/08 | 01/14/08
62688 | Sei Communications (Wkrs) | Dillsboro, IN | 01/16/08 | 01/15/08
62689 | Emerson Power Transmission (Comp) | Aurora, IL | 01/16/08 | 01/15/08
62690 | L and W Engineering Co., Inc. (State) | Holland, MI | 01/16/08 | 01/15/08
62691 | Von Weise USA (Wkrs) | Eaton Rapids, MI | 01/17/08 | 01/14/08
62692 | SSB Acqusitions/Saunder Brothers (Wkrs) | Greenwood, ME | 01/17/08 | 01/15/08
62693 | Huffman Hosiery Mills, Inc. (Wkrs) | Granite Falls, NC | 01/17/08 | 12/19/07
62694 | Girard School District (Wkrs) | Girard, PA | 01/17/08 | 01/15/08
62695 | Springs Global US, Inc. (Comp) | Fort Mill, SC | 01/17/08 | 01/15/08
62696 | J. J. Peiger Company (Comp) | Pittsburgh, PA | 01/17/08 | 01/15/08
62697 | Galey and Lord/Swift Galey (Comp) | Gastonia, NC | 01/17/08 | 01/07/08
62698 | Body Cote Material Testing (Wkrs) | Hillsdale, MI | 01/17/08 | 01/09/08
62699 | Victor Plastics Inc. (Comp) | North Liberty, IA | 01/17/08 | 01/15/08
62700 | Contact Industries/dba Clear Pine Mouldings (State) | Prineville, OR | 01/17/08 | 01/05/08
62701 | Tri-Core Mold and Die, Inc./Powermark International, Inc. (Wkrs) | Machesney Park, IL | 01/18/08 | 01/11/08
62702 | Merix Corporation (Wkrs) | Wood Village, OR | 01/18/08 | 01/18/08
62703 | Syngenta (Comp) | Bucks, AL | 01/18/08 | 01/17/08
62704 | Springs Window Fashions (Wkrs) | Montgomery, PA | 01/18/08 | 01/04/08
62705 | Faurecia Exhaust Systems, Inc. (Comp) | Troy, OH | 01/18/08 | 01/11/08
62706 | TJD Fabrications, Inc. (Comp) | Plattsburgh, NY | 01/18/08 | 01/11/08
62707 | General Cable Corporation (Wkrs) | Jackson, TN | 01/18/08 | 01/14/08

[FR Doc. E8-1824 Filed 1-31-08; 8:45 am]

BILLING CODE 4510-FN-P